DEPARTMENT OF TRANSPORTATION

National Highway Traffic Safety Administration

[U.S. DOT Docket No. NHTSA-2017-0087]

Reports, Forms, and Recordkeeping Requirements

AGENCY: National Highway Traffic Safety Administration (NHTSA), Department of Transportation (DOT).

ACTION: Request for public comment on proposed collection of information.

SUMMARY: Before a Federal agency can collect certain information from the public, it must receive approval from OMB. Under procedures established by the Paperwork Reduction Act of 1995, before seeking OMB approval, Federal agencies must solicit public comment on proposed collections of information, including extensions and reinstatements of previously approved collections. This document describes a collection of information for which NHTSA intends to seek OMB approval.

DATES: Comments must be received on or before January 2, 2018.

ADDRESSES: You may submit comments [identified by DOT Docket No. NHTSA-2017-0087] by any of the following methods:

• Federal Rulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: U.S. Department of Transportation, 1200 New Jersey Avenue SE., West Building Ground Floor, Room W12-140, between 9 a.m. and 5 p.m. ET, Monday through Friday, except Federal holidays. Telephone: 1-800-647-5527.

• Fax: 202-493-2251.

Instructions: All submissions must include the agency name and docket number for this proposed collection of information. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://docketsinfo.dot.gov/.

Docket: For access to the docket to read background documents or comments received, go to http://www.regulations.gov or the street address listed above. Follow the online instructions for accessing the dockets.

FOR FURTHER INFORMATION CONTACT: Ms. Laurie Flaherty, Office of Emergency Medical Services, National Highway Traffic Safety Administration, U.S. Department of Transportation, 1200 New Jersey Avenue SE., NPD-400, Room W44-322, Washington, DC 20590. (202) 366-2705. laurie.flaherty@dot.gov.

SUPPLEMENTARY INFORMATION: Under the Paperwork Reduction Act of 1995, before an agency submits a proposed collection of information to OMB for approval, it must publish a document in the Federal Register providing a 60 day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submissions of responses. In compliance with these requirements, NHTSA asks public comment on the following proposed collection of information:

Title: Medical Directors Workforce Assessment.

OMB Control Number: N/A.

Form Number: This collection of information uses no standard forms, but will utilize a Web-based, data reporting/collection tool.

Type of Review: New information collection.

Abstract: With over 50,000 separate Emergency Medical Services (EMS) agencies and fire departments providing care to millions of patients each year, a clear description of the training and backgrounds of those who provide medical direction of EMS services in the U.S. is surprisingly not available. An estimated 8,500 medical directors serve 20,000 EMS agencies and 30,000 fire departments across the country.

Public Safety Answering Points that answer 911 calls and provide emergency medical dispatch, aeromedical services, mass gathering events such as marathons and concerts, and police departments and their special operations teams also require medical directors if their personnel provide emergency care or instruction. Despite a growing number of trained and now boarded certified EMS physicians, prehospital medical direction faces several obstacles and unknowns. Currently data is difficult to identify, but many medical directors are thought to be from several specialties such as family practice, internal medicine, and surgery and have little or no EMS experience. In addition, individuals serving as EMS directors have varying degrees of involvement with their services. Medical directors' compensation, legal protections, involvement in research, and education are also largely unknown.

Knowing more about the population of EMS medical directors in the United States would create several benefits. Defining this groups' demographics, qualifications, number, types and sizes of agencies served, and their financial compensation and legal protections is critical to determining trends of employment, identifying professional and training needs, recognizing barriers for medical directors, and directing policy and advocacy efforts. Collecting this data is essential for improving EMS medical direction across the nation and the National Highway Safety Administration (NHTSA) and other federal departments would benefit from understanding its prehospital medical leadership from a national preparedness perspective.

The goal of the Medical Directors Workforce Assessment is to investigate and define key attributes of EMS and 911 medical directors across the United States in order to create a national picture of prehospital medical direction. The data will be used to establish an Emergency Medical Services Medical Director Workforce Assessment (EMSMDWA), which can guide future policy and investment in activities to support the improvement of preshospital medical direction.

Affected Public: Under this proposed effort, the respondents would voluntarily submit data described above utilizing a Web-based data collection tool. Reporting entities are EMS and 911 Medical Directors of state and local EMS and 911 systems. The total maximum number of respondents is estimated 350.

Estimated Number of Respondents: Under this proposed effort, several forums and organizations known for medical director involvement will be targeted by the Office of EMS, to respond to an online survey being developed by the National Association of EMS Physicians, under the terms of a cooperative agreement (DTNH22-16-H-00007). The total number of respondents is estimated at 350. This is a one-time survey and no annual or second survey is planned at this time.

Frequency: The reporting entities will be requested to submit data once, using the described Web-based tool.

Number of Responses: The total maximum number of responses is estimated at 350.

Estimated Total Burden: NHTSA estimates that the time required to submit the data described utilizing the Web-based tool will be one hour (no advance preparation, one hour of entry to Web site) per reporting entity, for a total of 350 hours for all entities. The respondents would not incur any reporting costs from the information collection beyond the time it takes to populate the Web-based data collection tool. The respondents also would not incur any recordkeeping burden or recordkeeping costs from the information collection.

The total estimated costs to respondents or record-keepers are based on the following:

• The total hour burden of the collection of information equaling 350 hours.

• Respondents will be EMS and 911 Medical Directors at of State, local, territorial, and tribal EMS and 911 systems. To estimate reasonable staff expenses to respond to this information collection, the Agencies reviewed the Bureau of Labor Statistics (BLS) Occupational Outlook Handbook and determined that the Physicians and Surgeons description closely aligns with the positions of personnel responsible for completing this request. BLS lists a median salary of $208,000 per year amounting to $100.00 per hour. There are no capital, start-up, or annual operation and maintenance costs involved in the collection of information.

• Total cost based on hour's burden equals $35,000.00.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC, on October 30, 2017.
Jeff Michael,
Associate Administrator, Research and Program Development.

[FR Doc. 2017-23867 Filed 11-1-17; 8:45 am]

BILLING CODE 4910-59-P